COMMODITY FUTURES TRADING COMMISSION

Global Markets Advisory Committee

AGENCY: Commodity Futures Trading Commission.

ACTION: Notice of Meeting.

SUMMARY: The Commodity Futures Trading Commission (CFTC) announces that on May 21, 2014, from 10:00 a.m. to 4:00 p.m. the Global Markets Advisory Committee (GMAC) will hold a public meeting at the CFTC's Washington, DC, headquarters. The GMAC will discuss issues related to the CFTC's coordination with foreign regulators on the oversight of foreign-based (i.e., located outside of the U.S.) swap clearinghouses and foreign swaps trading execution facilities.

DATES: The meeting will be held on Wednesday, May 21, 2014, from 10:00 a.m. to 4:00 p.m. Members of the public who wish to submit written statements in connection with the meeting should submit them by May 16, 2014.

ADDRESSES: The meeting will take place in the Conference Center at the CFTC's headquarters, Three Lafayette Centre, 1155 21st Street NW., Washington, DC 20581. Written statements should be submitted by electronic mail to: secretary@cftc.gov. Statements may also be submitted by mail to: Commodity Futures Trading Commission, Three Lafayette Centre, 1155 21st Street NW., Washington, DC 20581, attention: Office of the Secretary. Please use the title “Global Markets Advisory Committee” in any written statement you submit. Any statements submitted in connection with the committee meeting will be made available to the public, including publication on the CFTC Web site, www.cftc.gov.

FOR FURTHER INFORMATION CONTACT: Ted Serafini, GMAC Designated Federal Officer, Commodity Futures Trading Commission, Three Lafayette Centre, 1155 21st Street NW., Washington, DC 20581; (202) 418-5010.

SUPPLEMENTARY INFORMATION: The CFTC GMAC will hold a public meeting on Wednesday, May 21, 2014, from 10:00 a.m. to 4:00 p.m. at the CFTC's Washington, DC, headquarters. The meeting will consist of two panels. The first panel will discuss issues related to the CFTC utilizing its authority under section 5b(h) of the Commodity Exchange Act (CEA) to provide an exemption from registration as a derivatives clearing organization (DCO) for foreign-based swap clearinghouses that the CFTC finds are subject to comparable, comprehensive supervision and regulation by the appropriate government authorities in the home countries of such clearinghouses. The second panel will discuss issues related to the CFTC utilizing its authority under section 5h(g) of the CEA to provide an exemption from registration as a swap execution facility for foreign swaps trading execution facilities that the CFTC finds are subject to comparable, comprehensive supervision and regulation by the appropriate government authorities in the home countries of such facilities.

The meeting will be open to the public with seating on a first-come, first-served basis. Persons requiring special accommodations to attend the meeting because of a disability should notify the contact person named above.

Members of the public may also listen to the meeting by telephone by calling a domestic toll-free telephone or international toll or toll-free number to connect to a live, listen-only audio feed. Call-in participants should be prepared to provide their first name, last name, and affiliation. The call-in information is as follows:

Domestic Toll Free: 1-866-844-9416.

International Toll and Toll Free: Will be posted on the CFTC's Web site, http://www.cftc.gov, on the page for the meeting, under Related Documents.

Pass Code/Pin Code: CFTC.

After the meeting, a transcript of the meeting will be published through a link on the CFTC's Web site, http://www.cftc.gov. All written submissions provided to the CFTC in any form will also be published on the CFTC's Web site.

Authority: 5 U.S.C. Appendix, Federal Advisory Committee Act, Sec. 10(a)(2).

Dated: May 2, 2014.
Christopher J. Kirkpatrick,
Deputy Secretary of the Commission.

[FR Doc. 2014-10426 Filed 5-6-14; 8:45 am]

BILLING CODE 6351-01-P